DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Central California Traction Company & the United Transportation Union

[Waiver Petition Docket Number FRA-2009-0077]

The Central California Traction Company (CCT) and the United Transportation Union (UTU) jointly seek a waiver from compliance of the provisions of 49 U.S.C. 21103(a)(4), which provides that a train employee may not be required or allowed to remain or go on duty after that employee has initiated an on-duty period each day for 6 consecutive days, unless that employee has had at least 48 hours off duty at the employee's home terminal.

The parties state that provisions of their current collective bargaining agreements provide for an enhanced level of rest and safety for employees working regular or extra board assignments that is superior to the conditions imposed by 49 U.S.C. 21103(a)(4). Specifically, the agreements provide for four regular assignments working Monday through Friday, with regular starting times. Extra assignments are operated on weekends, usually one on Saturday and one on Sunday. Employees are called on Friday afternoon for the weekend assignments with Extra board employees, who fill vacancies in regular and extra weekend assignments, are subject to call during certain calling windows, and have one scheduled day off. CCT crews always complete their assignments and spend their off-duty periods at their home terminal. These provisions would be combined with compliance with other provisions of the hours of service laws, including a minium of 10 hours of undisturbed rest between assignments, and employees not exceeding 276 hours of service a month. At the time of this petition, CCT had 16 employees in train and engine service; 12 on regular assignments and the remainder on the extra board. The petition submitted by CCT and UTU may be viewed at http://www.regulations.gov under the docket number listed above.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0077) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on October 21, 2009.
Grady C. Cothen, Jr.,
Deputy Associate Administrator for Safety Standards and Program Development.

[FR Doc. E9-25817 Filed 10-26-09; 8:45 am]

BILLING CODE 4910-06-P